DEPARTMENT OF JUSTICE

Notice of Lodging of Proposed Consent Decree Under the Clean Water Act

On March 6, 2023, the Department of Justice lodged a proposed consent decree with the United States District Court for the District of Massachusetts in United States and Commonwealth of Massachusetts v. City of Gloucester, Massachusetts, 1:23-cv-10505-LTS (D. MA).

The United States filed a complaint under the Clean Water Act (“Act”) seeking injunctive relief for violations of the Act related to the City's failure to meet certain effluent limits, based on secondary treatment standards, of the City's Water Pollution Control Facility in violation of the Final National Pollution Discharge Elimination System permit which became effective on September 1, 2022. The proposed consent decree provides for the construction of secondary sewage treatment upgrades by March 31, 2028, and for compliance with all effluent limits in the Final Permit by June 30, 2028.

The publication of this notice opens a period for public comment on the modification to the consent decree. Comments should be addressed to the Assistant Attorney General, Environment and Natural Resources Division, and should refer to United States and Commonwealth of Massachusetts v. City of Gloucester, Massachusetts, D.J. Ref. No. 90-5-1-1-12666. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed modification to the consent decree may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $11.25 (25 cents per page reproduction cost) payable to the United States Treasury.

Henry S. Friedman,
Assistant Section Chief, Environmental Enforcement Section, Environment and Natural Resources Division.

[FR Doc. 2023-05225 Filed 3-14-23; 8:45 am]

BILLING CODE 4410-15-P